DEPARTMENT OF ENERGY

[OE Docket No. EA-280-C]

Application to Export Electric Energy; Direct Energy Marketing Inc.

AGENCY: Office of Electricity, Department of Energy.

ACTION: Notice of application.

SUMMARY: Direct Energy Marketing Inc. (Applicant or DEMI) has applied for authorization to transmit electric energy from the United States to Canada pursuant to the Federal Power Act.

DATES: Comments, protests, or motions to intervene must be submitted on or before January 11, 2021.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On November 13, 2020, DEMI filed an application with DOE (Application or App.) for renewal of its authorization to transmit electric energy from the United States to Canada for a term of ten years. DEMI states that it is a Delaware corporation with its principal place of business in Houston, TX. App. at 1. DEMI further represents that it “is wholly owned by Centrica US Holdings Inc., an indirect, wholly-owned subsidiary of Centrica plc (Centrica).” Id. DEMI adds that it “does not own or control any electric generation facilities in any wholesale market in interstate commerce” and that “neither DEMI nor any of its affiliates own or control transmission facilities or has a electric franchised service territory or captive wholesale or retail customers.” Id.

DEMI further states that it “will purchase the power to be exported from electric utilities and federal power marketing agencies pursuant to voluntary agreements.” App. at 3. DEMI contends that “the electric power that [it] will export on either a firm or interruptible basis will not impair the sufficiency of the electric power supply within the United States” and that its “exports of electric energy to Canada will not impede or tend to impede the regional coordination of electric utility planning or operations.” Id. at 3-4.

DEMI states that all its electricity exports “will be transmitted pursuant to arrangements with utilities that own and operate existing transmission facilities and will be consistent with the export limitations and other terms and conditions contained in the existing Presidential Permits and electricity export authorizations associated with those facilities.” App. at 4. DEMI also represents that it “will comply with the terms and conditions contained in the authorizations issued for these cross-border facilities as well as other export limitations that DOE may deem appropriate.” Id.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning DEMI's application to export electric energy to Canada should be clearly marked with OE Docket No. EA-280-C. Additional copies are to be provided directly to Ryan Harwell, 12 Greenway Plaza, Suite 250, Houston, TX 77046, Ryan.Harwell@directenergy.com; Deonne Cunningham, 12 Greenway Plaza, Suite 250, Houston, TX 77046, Deonne.Cunningham@directenergy.com; and Bray Dohrwardt, 12 Greenway Plaza, Suite 250, Houston, TX 77046, Bray.Dohrwardt@directenergy.com.

A final decision will be made on the Application after the environmental impacts have been evaluated pursuant to DOE's National Environmental Policy Act Implementing Procedures (10 CFR part 1021) and after DOE determines that the proposed action will not have an adverse impact on the sufficiency of supply or reliability of the U.S. electric power supply system.

Copies of the Application will be made available, upon request, by accessing the program website at http://energy.gov/node/11845, or by emailing Matthew Aronoff at matthew.aronoff@hq.doe.gov.

Signed in Washington, DC, on December 7, 2020.
Christopher Lawrence,
Management and Program Analyst, Energy Resilience Division, Office of Electricity.

[FR Doc. 2020-27249 Filed 12-10-20; 8:45 am]

BILLING CODE 6450-01-P